DEPARTMENT OF THE INTERIOR

Fish and Wildlife Service

[FWS-R4-ES-2008-N0131; 41545-1261-0000-D2]

Interagency Florida Panther Response Plan

AGENCY: Fish and Wildlife Service, Interior.

ACTION: Notice of availability: environmental assessment and finding of no significant impact for the Interagency Florida Panther Response Plan.

SUMMARY: We, the Fish and Wildlife Service, announce our decision and the availability of the Final Environmental Assessment (EA) and Finding of No Significant Impact (FONSI) for our Interagency Florida Panther Response Plan. Our EA considers alternatives for managing conflicts between humans and the endangered Florida panther (Puma concolor coryi), in accordance with the National Environmental Policy Act of 1969, as amended.

ADDRESSES: A copy of the EA and FONSI may be obtained by writing to: Layne Hamilton, Refuge Manager, Florida Panther and Ten Thousand Islands National Wildlife Refuges, 3860 Tollgate Boulevard, Suite 300, Naples, FL 34114, or Elizabeth Souheaver, Area II Supervisor, Southeast Regional Office, Fish and Wildlife Service, 1875 Century Boulevard, Suite 420, Atlanta, GA 30345. The EA and/or FONSI may also be accessed and downloaded from the Service's Internet Web site: http://www.fws.gov/verobeach/.

FOR FURTHER INFORMATION CONTACT: Ms. Layne Hamilton, at address in ADDRESSES, or at 239-353-8442, extension 227 (telephone), or Ms. Elizabeth Souheaver, Area II Supervisor, at address in ADDRESSES, or at 404-679-7163 (telephone).

SUPPLEMENTARY INFORMATION: With this notice, we announce our decision and availability of the final EA and FONSI for the Interagency Florida Panther Response Plan in accordance with the National Environmental Policy Act's (NEPA's) implementing regulations at 40 CFR 1506.6 (b). We released a draft of the plan to the public as a Draft EA for “Guidelines for Living with Florida Panther and the Interagency Florida Panther Response Plan,” and requested comments in a notice in the Federal Register on May 25, 2006 (71 FR 30156). To improve the quality and credibility of the scientific information, we also conducted a formal peer review process for the draft plan. Responses to public, tribal, and peer review comments were included in the Revised EA appendices. On November 2, 2007, we released the Revised EA and the Interagency Florida Panther Response Plan to the public, requesting comments via a Federal Register notice (72 FR 62256). We have included responses to specific comments in the Final EA appendices. We have coordinated this proposal with the National Park Service, the Florida Fish and Wildlife Conservation Commission, and local Indian tribes.

The Draft, Revised, and Final EAs identified and evaluated three alternatives for managing the conflicts between humans and the endangered Florida panther (Puma concolor coryi). Alternative A (Preferred Action) manages human-panther interactions with an interagency response team and an established plan that prioritizes public safety and evaluates each situation by analyzing panther behavior and human activity. Alternative B (No Action) does not utilize an interagency team or a response plan, but responds to human-panther interactions on a case-by-case basis without established protocols or guidelines. Alternative C includes a response team and a plan that differs from Alternative A by providing rigid protocols based on frequency of panther sightings and proximity to human-occupied structures, without considering panther behavior or influences of human activity on panther behavior. The EA consists of a thorough analysis of the environmental, social, economic, and cultural resource considerations for each alternative.

The FONSI documents the selection of Alternative A. This alternative was selected over the other alternatives because it utilizes the best available science in a consistent manner to manage human-panther interactions. Under this alternative, the Response Team's responsibility is to review information related to human-panther interactions, classify these situations based on the documented behavior of the panther, provide an action plan to the responsible agencies, and take approved and appropriate actions. The plan provides the responding officials with the flexibility to address emergency situations swiftly. Also, public outreach and education are an important element of this proposal, recognizing the importance of teaching people how to safely live and recreate in panther habitat. There are no conflicts with local, State, regional, or Federal plans or policies.

Authority: We provide this notice under NEPA regulations at 40 CFR 1506.6.

Dated: October 6, 2008.
Cynthia K. Dohner,
Deputy Regional Director, Southeast Region.

[FR Doc. E8-24256 Filed 10-10-08; 8:45 am]

BILLING CODE 4310-55-P